GOVERNMENT PRINTING OFFICE

Meeting Notice; Depository Library Council to the Public Printer

The Depository Library Council to the Public Printer (DLC) will meet on Monday, October 17, through Thursday, October 20, 2011, from 8 a.m. to 5:30 p.m., at the Doubletree Hotel-Crystal City, located at 300 Army Navy Drive, Arlington, Virginia, to discuss the Federal Depository Library Program. All sessions are open to the public. The sleeping rooms available at the Doubletree Hotel-Crystal City will be at the Government rate of $226.00 per night (plus applicable state and local taxes, currently 10.25%) for a single or a double. The Doubletree Hotel-Crystal City is in compliance with the requirements of Title III of the Americans with Disabilities Act and meets all Fire Safety Act regulations.

William J. Boarman,
Public Printer of the United States.

[FR Doc. 2011-23948 Filed 9-16-11; 8:45 am]

BILLING CODE 1520-01-P